DEPARTMENT OF THE INTERIOR

National Park Service

Notice of Intent to Repatriate a Cultural Item in the Possession of the Ilwaco Heritage Foundation, Ilwaco, WA

AGENCY: National Park Service

ACTION: Notice

Notice is hereby given under the Native American Graves Protection and Repatriation Act, 43 CFR 10.10(a)(3), of the intent to repatriate a cultural item in the possession of the Ilwaco Heritage Museum, Ilwaco, WA, that meets the definitions of “sacred object” under Section 2 of the Act.

This notice is published as part of the National Park Service's administrative responsibilities under NAGPRA, 43 CFR 10.2(c). The determinations within this notice are the sole responsibility of the museum that has control over this cultural item. The National Park Service is not responsible for determinations within this notice.

The cultural item is a carved ceremonial staff with the head of Raven, 85 cm long (accession number 1987.164/2, catalog number 85.7).

The cultural item was acquired by the late Charles Bacon of Ilwaco, WA, on the Quinault Reservation in Taholah, WA, in 1952. Mr. Bacon transferred the cultural item to the Ilwaco Heritage Museum in 1987.

Cultural affiliation with the Quinault Tribe of the Quinault Reservation, Washington, is indicated by the object's place of acquisition on the Quinault Reservation in Taholah, WA. Correspondence with the Quinault Cultural Center further indicates the object is a speaker's staff needed by Quinault traditional religious leaders today for ongoing sacred Thunderbird, Wolf, Bear, Sea Lion, Otter, and Raven ceremonies, and to honor the First Salmon Ceremony, the Salmon Berry Feasts, and Elk Festival. Consultation with the Quinault Cultural Center suggests that, since one would expect such an object to be handed down from generation to generation within a family group, the raven staff also may be an object of cultural patrimony.

Based on the above-mentioned information, and with the recommendation of the staff of the Ilwaco Heritage Museum, the Ilwaco Heritage Foundation Board of Directors has determined that, pursuant to 43 CFR 10.2(d)(3), this cultural item is a specific ceremonial object needed by traditional Native American religious leaders for the practice of traditional Native American religions by their current-day adherents. The Ilwaco Heritage Foundation Board of Directors also has determined that, pursuant to 43 CFR 10.2(e), there is a relationship of shared identity that can be traced between this cultural item and the Quinault Tribe of the Quinault Reservation, Washington.

This notice has been sent to officials of the Quinault Tribe of the Quinault Reservation, Washington. Representatives of any other Indian tribe that believes itself to be culturally affiliated with this cultural item should contact Hobe Kytr, Administrator of the Ilwaco Heritage Museum, P.O. Box 153, Ilwaco, WA 98624, telephone (360) 642-3446, before February 26, 2001. Repatriation of the cultural item to the Quinault Tribe of the Quinault Reservation, Washington may begin after that date if no additional claimants come forward.

Dated: January 17, 2001.
John Robbins,
Assistant Director, Cultural Resources Stewardship and Partnerships.

[FR Doc. 01-2323 Filed 1-25-01; 8:45 am]

BILLING CODE 4310-70-F